DEPARTMENT OF COMMERCE

Foreign-Trade Zones Board

[Order No. 2128]

Reorganization of Foreign-Trade Zone 221 Under Alternative Site Framework, Mesa, Arizona

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the City of Mesa, grantee of Foreign-Trade Zone 221, submitted an application to the Board (FTZ Docket B-10-2022, docketed March 28, 2022) for authority to reorganize under the ASF with a service area of the City of Mesa, Arizona, adjacent to the Phoenix Customs and Border Protection port of entry, and FTZ 221's existing Site 1 would be categorized as a magnet site;

Whereas, notice inviting public comment was given in the Federal Register (87 FR 19475, April 4, 2022) and the application has been processed pursuant to the FTZ Act and the Board's regulations; and,

Whereas, the Board adopts the findings and recommendations of the examiner's report, and finds that the requirements of the FTZ Act and the Board's regulations are satisfied;

Now, therefore, the Board hereby orders:

The application to reorganize FTZ 221 under the ASF is approved, subject to the FTZ Act and the Board's regulations, including Section 400.13, to the Board's standard 2,000-acre activation limit for the zone.

Dated: July 15, 2022.
Lisa W. Wang,
Assistant Secretary for Enforcement and Compliance, Alternate Chairperson, Foreign-Trade Zones Board.

[FR Doc. 2022-15635 Filed 7-20-22; 8:45 am]

BILLING CODE 3510-DS-P